DEPARTMENT OF EDUCATION

Office of Special Education and Rehabilitative Services; Overview Information; Technology and Media Services for Individuals With Disabilities—Educational Media Activities to Improve State Systems for Providing Educational Materials in Accessible Formats; Notice Inviting Applications for New Awards for Fiscal Year (FY) 2007

Catalog of Federal Domestic Assistance (CFDA) Number: 84.327S.

Dates: Applications Available: August 3, 2007.

Deadline for Transmittal of Applications: September 4, 2007.

Deadline for Intergovernmental Review: September 7, 2007.

Full Text of Announcement

I. Funding Opportunity Description

Purpose of Program: The purpose of the Technology and Media Services for Individuals with Disabilities program is to: (1) Improve results for children with disabilities by promoting the development, demonstration, and use of technology; (2) support educational media services activities designed to be of educational value in the classroom setting for children with disabilities; and (3) provide support for captioning and video description that is appropriate for use in the classroom setting.

Priority: In accordance with 34 CFR 75.105(b)(2)(v), this priority is from allowable activities specified in the statute (see sections 674 and 681(d) of the Individuals with Disabilities Education Act (IDEA), 20 U.S.C. 1400 et seq.).

Absolute Priority: For FY 2007, and any subsequent year in which we make awards based on the list of unfunded applicants from this competition, this priority is an absolute priority. Under 34 CFR 75.105(c)(3) we consider only applications that meet this priority.

This priority is:

Technology and Media Services for Individuals with Disabilities—Educational Media Activities to Improve State Systems for Providing Educational Materials in Accessible Formats.

Background

The IDEA requires States to provide a free appropriate public education (FAPE) to all students with disabilities. This includes the provision of educational materials in accessible formats for students with disabilities eligible for services under Part B of IDEA, including students with visual impairments or other print disabilities and learning disabilities.

The 2004 amendments to IDEA added several new provisions to improve the timely production and dissemination of educational materials in accessible formats for students who are blind and other students with print disabilities, including the following:

• Section 612(a)(23) of IDEA requires States, including the Outlying Areas (OAs) (United States Virgin Islands, Guam, American Samoa, and the Commonwealth of the Northern Mariana Islands) and the Freely Associated States (FAS) (Palau, the Marshall Islands, and the Federated States of Micronesia), to adopt the National Instructional Materials Accessibility Standard (NIMAS) for the purpose of providing instructional materials to persons who are blind and other persons with print disabilities, and to ensure that these materials are provided in a timely manner. (Section 613(a)(6) of IDEA includes similar requirements for local educational agencies (LEAs)).

• Section 674(e) of IDEA requires the Department of Education (Department) to establish a National Instructional Materials Access Center (NIMAC) to act as a repository for electronic files of print instructional materials created in the NIMAS format.

• Section 612(a)(23) of IDEA requires States, including the OAs and FAS, that choose to coordinate with the NIMAC, as part of any materials adoption process, procurement contract, or other practice or instrument used for purchase of print instructional materials, to enter into a written contract with the publisher of the print instructional materials to: (1) Require the publisher to prepare and provide, on or before delivery of the print instructional materials, the NIMAC with NIMAS-compliant electronic files of print instructional materials (section 613(a)(6) of IDEA contains similar requirements for LEAs) or (2) purchase instructional materials from the publisher that are produced in, or may be rendered in, specialized formats.

Educational materials obtained from the NIMAC only may be provided to students with disabilities who meet the eligibility criteria of section 674(e) of IDEA. However, the group of students that meets the 674(e) eligibility criteria does not include all students with disabilities eligible under Part B of IDEA whom State educational agencies (SEAs) and LEAs are required to serve. In the preamble to the regulations implementing Part B of IDEA (71 FR 46618), the Department explained that SEAs and LEAs have an obligation to provide accessible instructional materials in a timely manner to children with disabilities who may need educational materials in accessible formats, but who are not eligible to receive materials produced from files obtained through the NIMAC. States must determine how they will provide accessible materials to children who are eligible to receive materials produced from files obtained through the NIMAC, as well as to children who are eligible to receive services under Part B of IDEA but who are not eligible to receive materials produced from files obtained through the NIMAC.

States, including the OAs and FAS, and LEAs are experiencing significant challenges implementing these new provisions, including adapting existing systems for providing educational materials in accessible formats to address the new requirements. This priority supports educational media activities that address State needs for assistance in providing students with disabilities educational materials in accessible formats.

Priority:

The purpose of this priority is to support educational media activities that establish or enhance State, including OAs and FAS, systems or mechanisms for providing educational materials in accessible formats for students with disabilities who are eligible for services under Part B of IDEA.

Applicants must describe in their applications their specific plans for how they will use grant funds received under this priority to implement or enhance State systems for providing educational materials in accessible formats in a timely manner to students with disabilities who are eligible under Part B of IDEA, and ensuring that the accessible formats are appropriate for use by these students. Activities may include, but are not limited to, activities that assist States to:

• Understand and implement the NIMAS and NIMAC requirements in Part B of IDEA;

• Reconcile conflicting State and Federal statutory and regulatory provisions related to types of file formats that must be used in producing educational materials in accessible formats;

• Modify State and LEA systems that use other file formats to use NIMAS complaint-files;

• Determine how the SEA will assess the need for educational materials in accessible formats, assist LEAs in determining how student needs for accessible materials will be identified, document needs in students' individualized education programs (IEPs), and certify the eligibility of students for NIMAC materials in accordance with section 674(e)(3)(A) of IDEA;

• Develop data management and tracking systems for managing NIMAS files and providing educational materials in accessible formats;

• Identify vendors that convert NIMAS files into accessible formats and, as necessary, distribute the materials produced from the NIMAS files;

• Create an integrated system that coordinates NIMAC-related requests and educational media activities of students with visual impairments and other print disabilities with educational media activities that benefit children with disabilities who do not meet the NIMAC eligibility requirements, but who need accessible versions of educational materials as determined pursuant to section 614(d) of IDEA;

• Build upon existing State systems or infrastructures related to special education or regular education, rather than creating new systems to address the NIMAS and NIMAC requirements, as appropriate; and

• Coordinate with Federal technical assistance providers, such as the NIMAS Technical Assistance Center.

Applicants that are not SEAs, FAS, or OAs also may apply if the application includes a letter of endorsement from an SEA, FAS, or OA indicating that the applicant is applying on its behalf.

Where it would be a more effective use of resources, SEAs, FAS, and OAs are encouraged to form consortia that meet the requirements in 34 CFR 75.127 to 75.129, and submit a joint application that proposes to use the combined funds available for each State, FAS, or OA. A consortium is comprised of more than one eligible entity and could include entities from the same geographic region or entities with similar demographic characteristics, populations, geographic characteristics, or other characteristics. The Secretary views the formation of consortia as an effective and efficient strategy to address the requirements of this priority.

Projects funded under this priority also must—

(a) Budget for a three-day Project Directors' meeting in Washington, DC during the 18-month project period, plus one additional two-day trip to Washington, DC to meet with the Office of Special Education Programs (OSEP) Project Officer and other funded projects for purposes of cross-project collaboration and information exchange.

(b) If the project maintains a Web site, include relevant information and documents in a format that meets a government or industry-recognized standard for accessibility.

Waiver of Proposed Rulemaking: Under the Administrative Procedure Act (APA) (5 U.S.C. 553), the Department generally offers interested parties the opportunity to comment on proposed priorities. However, section 681(d) of IDEA makes the public comment requirements of the APA inapplicable to the priority in this notice.

Program Authority: 20 U.S.C. 1474 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Discretionary grant.

Estimated Available Funds: $6,300,000. Contingent upon the availability of funds and the quality of applications, we may make additional awards in FY 2008 from the list of unfunded applicants from this competition.

Estimated Range of Awards: $400,000-$500,000.

Estimated Average Size of Awards: $420,000.

Maximum Award: The maximum amount available per State, OA, or FAS is $500,000. The level of funding for a consortium or any other group of States, including OAs and FAS, may not exceed the combined total of the maximum amounts that the entities comprising the consortium or group could have received if they had applied separately. The Secretary does not intend to make more than one award to serve a State, OA or FAS. The Assistant Secretary for Special Education and Rehabilitative Services may change the maximum amount through a notice published in the Federal Register.

Estimated Number of Awards: 15.

Note: The Department is not bound by any estimates in this notice.

Project Period: Up to 18 months.

III. Eligibility Information

1. Eligible Applicants: An SEA of the 50 States, the District of Columbia, the Commonwealth of Puerto Rico, OA, or FAS and, if endorsed by an SEA, FAS, or OA, the following may apply on their behalf: LEAs, public charter schools that are LEAs under State law, institutions of higher education, tribes or tribal organizations, other public agencies, private nonprofit organizations, and for-profit organizations.

2. Cost Sharing or Matching: This competition does not require cost sharing or matching.

3. Other: General Requirements—

(a) The projects funded under this competition must make positive efforts to employ, and advance in employment, qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA number 84.327S.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this competition. Page Limit: The application narrative (Part III of the application) is where you, the applicant, address the selection criteria that reviewers use to evaluate your application. If your proposed project is for a single State, you must limit the application narrative Part III to the equivalent of no more than 15 pages. If your proposed project is for a consortium or you are applying on behalf of multiple States, you must limit the application narrative Part III to the equivalent of no more than 25 pages. To determine the number of pages or the equivalent, you must use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the two-page abstract, the resumes, the bibliography, the references, or the letters of support. However, the page limit does apply to all of the application narrative section Part III.

We will reject your application if—

• You apply these standards and exceed the page limit; or

• You apply other standards and exceed the equivalent of the page limit.

3. Submission Dates and Times:

Applications Available: August 3, 2007. Deadline for Transmittal of Applications: September 4, 2007.

Applications for grants under this competition may be submitted electronically using the http://www.Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 7, 2007.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition may be submitted electronically or in paper format by mail or hand delivery.

a. Electronic Submission of Applications.

To comply with the President's Management Agenda, we are participating as a partner in the Governmentwide Grants.gov Apply site. The Technology and Media Services for Individuals with Disabilities—Educational Media Activities to Improve State Systems for Providing Educational Materials in Accessible Formats, CFDA number 84.327S, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Educational Media Activities to Improve State Systems for Providing Educational Materials in Accessible Formats competition at: http://www.Grants.gov. You must search for the downloadable application package for this competition by the CFDA number. Do not include the CFDA number's alpha suffix in your search (e.g., search for 84.327, not 84.327S).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service:U.S. Department of Education, Application Control Center, Attention: (CFDA Number 84.327S), 400 Maryland Avenue, SW., Washington, DC 20202-4260; or

By mail through a commercial carrier:U.S. Department of Education, Application Control Center, Stop 4260, Attention: (CFDA Number 84.327S), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327S), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Peer Review: In the past, there have been problems in finding peer reviewers without conflicts of interest for competitions in which numerous entities throughout the country submit applications. The Standing Panel requirements under the Act also have placed additional constraints on the availability of reviewers. Therefore, the Department has determined that, for some discretionary grant competitions, in order to avoid potential conflicts of interest, applications may be separated into two or more groups, and ranked and selected for funding within each specific group. This procedure will ensure the availability of a much larger group of reviewers without conflicts of interest. It also will increase the quality, independence, and fairness of the review process and permit panel members to review applications under discretionary grant competitions for which they also have submitted applications. However, if the Department selects for funding an equal number of applications in each group, different cut-off points for fundable applications in each group may result.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has developed measures that will yield information on various aspects of the quality of the Technology and Media Services for Individuals with Disabilities program. These measures focus on the extent to which projects are of high quality, are relevant to the needs of children with disabilities, and contribute to improving results for children with disabilities. We will collect data on these measures from the projects funded under this competition.

VII. Agency Contact

FOR FURTHER INFORMATION CONTACT: Glinda Hill, U.S. Department of Education, 400 Maryland Avenue, SW., Room 4063, Potomac Center Plaza (PCP), Washington, DC 20202-2600. Telephone: (202) 245-7376.

If you use a TDD, call the Federal Relay Service (FRS), toll free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 30, 2007.
John H. Hager,
Assistant Secretary for Special Education and Rehabilitative Services.

[FR Doc. E7-15131 Filed 8-2-07; 8:45 am]

BILLING CODE 4000-01-P